ENVIRONMENTAL PROTECTION AGENCY

[ORD-2004-0022, FRL-7850-9]

Agency Information Collection Activities: Proposed Collection; Comment Request; Technology Performance and Product Information To Support Vendor Information Summaries, EPA ICR Number 2154.02, OMB Control Number 2050-0194

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on February 28, 2005. Before submitting the ICR to OMB for review and approval, EPA is soliciting comments on specific aspects of the proposed information collection as described below.

DATES: Comments must be submitted on or before February 10, 2005.

ADDRESSES: Submit your comments, referencing docket ID number ORD-2004-0022, to EPA online using EDOCKET (our preferred method), by e-mail to ord.docket@epa.gov, or by mail to: EPA Docket Center, Environmental Protection Agency, ORD Docket, 28221T, 1200 Pennsylvania Ave., NW., Washington, DC 20460.

FOR FURTHER INFORMATION CONTACT: Eric N. Koglin, Environmental Protection Agency, P.O. Box 93478, Las Vegas, Nevada 89193-3478; telephone number: 702-798-2332; fax number: 702-798-2291; e-mail address: koglin.eric@epa.gov.

SUPPLEMENTARY INFORMATION: EPA has established a public docket for this ICR under Docket ID number ORD-2004-0022, which is available for public viewing at the ORD Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the ORD Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are vendors and developers of technologies (commercially available and those under development) that are intended to be used to decontaminate structures (e.g., buildings (interior and exterior) and water distribution systems) contaminated with chemical, biological, or radiological materials and technologies for use in detecting, measuring, and monitoring these same materials in air, on surfaces, and in water.

Title: Technology Performance and Product Information to Support Vendor Information Summaries.

Abstract: The U.S. EPA Office of Research and Development's National Homeland Security Research Center (NHSRC) is helping to protect human health and the environment from adverse impacts resulting from intentional acts of terror. With an emphasis on decontamination and consequence management, water infrastructure protection, and threat and consequence assessment, NHSRC scientists and engineers are working to develop tools and information that will help detect the intentional introduction of chemical, biological, and radiological contaminants in buildings or water systems, the containment of these contaminants, the decontamination of buildings and/or water systems, and the disposal of material resulting from cleanups. With a substantial background in environmental protection and risk management, NHSRC researchers are well-positioned to develop the tools and technologies needed to respond to existing and potential terrorist threats. The focus of these efforts is aimed at providing advice, guidance, and scientific expertise on homeland security issues to emergency response personnel, consequence managers, decision-makers, and government officials that will result in improved protection for all citizens.

An important facet of the NHSRC mission is identifying, testing, and evaluating technologies to support water utility operators, emergency responders, and facility managers. EPA lacks a well documented array of technological tools to adequately address all of the monitoring, detection, decontamination, and treatment tasks associated with remediating contaminated facilities and drinking water supply systems. EPA is aware that significant research, development, and commercialization efforts are underway by the private sector, but EPA needs to manage the information concerning the myriad of technology choices faced by its customers.

EPA has initiated this effort to develop brief vendor information summaries of available technologies relevant to the detection and decontamination of drinking water systems, building materials, building structures, and indoor air that may become contaminated with chemical, biological, or radiological contaminants. These summaries will be based upon vendor-generated or provided information including any independent, validated test data generated by governmental or other organizations and provided to EPA through this ICR.

EPA will produce 4-10 page summaries on each of the technologies for which vendors voluntarily agreed to submit the requested information. These summaries will be shared with EPA and other emergency response personnel, building and facility managers, and water utility operators. The information provided by technology developers and vendors will also be used by the NHSRC's Technology Testing and Evaluation Program (TTEP) to identify technologies that may be suitable candidates for testing and evaluation and to track those technologies under development that may eventually be ready for rigorous testing and evaluation. Developers and vendors with applicable technologies are being searched through all available mechanisms. Once identified, the developer or vendor is sent a letter requesting the submission of specific information pertinent to the performance, operation, maintenance, and cost of the technology.

The submission of information is voluntary. Because the summarized information will be publically available, technology vendors/developers will be discouraged from submitting CBI. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that 150 technology developers or vendors will annually respond to this request for information. EPA assumes that the vendors or developers have data supporting their claim of efficacy, but will not require that it be generated if that is not the case. EPA estimates 1-4 hours of time (average 2.5 hours) will be expended by the companies collating existing information, photocopying, and submitting packages to EPA. The request letter will require the recipient to devote time (i.e., as measured by staff man-hours) and resources (i.e., to copy documents and mail responses) to produce acceptable responses. EPA expects that the companies will be photocopying existing information, test results, and testing procedures as well as product literature, to respond to this request for information and, where possible, submitting documents electronically.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: December 13, 2004.
Andrew P. Avel,
Acting Director, National Homeland Security Research Center.

[FR Doc. 04-27885 Filed 12-20-04; 8:45 am]

BILLING CODE 6560-50-P